INTERNATIONAL TRADE COMMISSION

[Investigation No. TA-201-73]

Steel; Correction

AGENCY: International Trade Commission.

ACTION: Correction notice for the subject investigation.

SUMMARY: On August 22, 2001, the Commission published in the Federal Register (66 FR 44158) notice of consolidation of an investigation on certain steel imports under section 201 of the Trade Act of 1974 (19 U.S.C. 2251) requested by the Committee on Finance of the United States Senate with the Commission's previously-instituted investigation No. TA-201-73. Accordingly, the Commission gives notice of a needed correction to the above mentioned notice. The wording “Committee” mentioned under the summary heading in the second sentence of the second paragraph should be “Commission.”

EFFECTIVE DATE: August 22, 2001.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

The public record for this investigation may be viewed on the Commission's electronic docket (EDIS-ON-LINE) at http://dockets.usitc.gov/eol/public.

By order of the Commission.
Issued: August 22, 2001.
Donna R. Koehnke,
Secretary.

[FR Doc. 01-21640 Filed 8-27-01; 8:45 am]

BILLING CODE 7020-02-P